DEPARTMENT OF THE INTERIOR

Fish and Wildlife Service

[FWS-R8-ES-2020-N054; FRES48010811290 XXX]

Endangered and Threatened Species; Receipt of Incidental Take Permit Application and Habitat Conservation Plan; Availability of Environmental Assessment; Extension of Public Comment Period

AGENCY: Fish and Wildlife Service, Interior.

ACTION: Notice of availability; extension of public comment period.

SUMMARY: The U.S. Fish and Wildlife Service (Service) is extending the public comment period for the draft environmental assessment (DEA) and habitat conservation plan (HCP) in support of an incidental take permit (ITP) application received from the Pacific Gas and Electric Company (applicant).

DATES: The comment period for the DEA and HCP addressing the ITP application for incidental take, which published on March 2, 2020 (85 FR 12319), is extended by 15 days. Please submit your written comments by 11:59 p.m. PST on April 16, 2020.

ADDRESSES: Document availability: To view the DEA and HCP, go to the U.S. Fish and Wildlife Service's Sacramento Field Office website at http://www.fws.gov/sacramento.

Submitting comments: You may submit comments by one of the following methods. If you have already submitted a comment, you need not resubmit it.

• Fax: (916) 414-6713.

• U.S. mail or hand-delivery: Eric Tattersall, Assistant Field Supervisor; U.S. Fish and Wildlife Service; Sacramento Fish and Wildlife Office; 2800 Cottage Way, W-2605; Sacramento, CA 95825.

We request that you submit comments by only the methods described above.

FOR FURTHER INFORMATION CONTACT: Joshua Emery, Senior Biologist, Conservation Planning Division; or Eric Tattersall, Assistant Field Supervisor, at the Sacramento Fish and Wildlife Office address above or by telephone at (916) 414-6600. If you use a telecommunications device for the deaf, hard-of-hearing, or speech disabled, please call the Federal Relay Service at 800-877-8339.

SUPPLEMENTARY INFORMATION: The U.S. Fish and Wildlife Service (Service) received an incidental take permit (ITP) application on December 2, 2019, from the Pacific Gas and Electric Company in accordance with the requirements of the Endangered Species Act, as amended (ESA; 16 U.S.C. 1531 et seq.). For more information, see the March 2, 2020 (85 FR 12319), notice.

We are extending the public comment period on the DEA and HCP documents (see DATES and ADDRESSES).

Authority

We issue this notice pursuant to section 10(c) of the ESA (16 U.S.C. 1531 et seq.) and its implementing regulations (50 CFR 17.22 and 17.32), and the National Environmental Policy Act (42 U.S.C. 4321 et seq.) and its implementing regulations (40 CFR 1506.6 and 43 CFR 46.305).

Jennifer Norris,
Field Supervisor, Sacramento Fish and Wildlife Office, Sacramento, California.

[FR Doc. 2020-06269 Filed 3-25-20; 8:45 am]

BILLING CODE 4333-15-P